DEPARTMENT OF COMMERCE

International Trade Administration

[A-570-865]

Certain Hot-Rolled Carbon Steel Flat Products From the People's Republic of China; Notice of Amended Final Determination Pursuant to Court Decision

AGENCY: Import Administration, International Trade Administration, Department of Commerce.

EFFECTIVE DATE: November 17, 2005.

SUMMARY: On March 15, 2005, the United States Court of International Trade (“CIT”) issued an order sustaining the Department of Commerce's (“the Department”) second remand determination of the Final Determination of Sales at Less Than Fair Value: Certain Hot Rolled Carbon Steel Flat Products from the People's Republic of China, 66 FR 49632 (September 28, 2001) (“Final Determination”). See Anshan Iron & Steel Co. v. United States, 366 F. Supp. 2d 128 (CIT 2005). Because all litigation in this matter has now concluded, the Department is issuing its amended final determination in accordance with the CIT's decision.

FOR FURTHER INFORMATION CONTACT: Carrie Blozy, AD/CVD Operations, Office 9, Import Administration, International Trade Administration, U.S. Department of Commerce, 14th Street and Constitution Avenue NW, Washington, DC 20230; telephone: (202) 482-5403.

SUPPLEMENTARY INFORMATION:

Background

On September 28, 2001, the Department published the Final Determination, covering the period of investigation (“POI”) April 1, 2000 through September 30, 2000. On November 29, 2001, the antidumping duty order was published. See Notice of the Antidumping Duty Order: Certain Hot-Rolled Carbon Steel Flat Products From the People's Republic of China, 66 FR 59561 (November 29, 2001). Anshan Iron & Steel Company, Ltd., New Iron & Steel Company, Ltd., and Angang Group International Trade Corporation (collectively “Anshan”), Benxi Iron & Steel Company, Ltd., Benxi Steel Plate Company, Ltd., and Benxi Iron & Steel Group International Economic and Trade Company Ltd. (collectively “Benxi”), and Shanghai Baosteel Group Corporation, Baosteel America, Inc., and Baosteel Group International Trade Corporation (“Baosteel”) (collectively “Respondents”) contested various aspects of the Final Determination.

On July 16, 2003, the CIT issued its opinion and remanded to the Department two issues in the Final Determination for reconsideration: (1) with respect to the Department's decision to assign surrogate values to Respondents' self-produced factors, the CIT ordered the Department to either provide an adequate explanation for its deviation from previous practice, or assign surrogate values to Respondents' inputs into its self-produced factors; and (2) with respect to the Department's decision not to treat defective hot-rolled sheet as a byproduct, the Court ordered the Department to adjust Baosteel's factors-of-production calculations by including defective sheet as merchandise under investigation. See Anshan Iron & Steel Co. v. United States, Slip Op. 03-83 (CIT 2003). Pursuant to the CIT's decision, the Department issued its remand. See Final Results of Redetermination Pursuant to Remand (November 7, 2003) (available at http://ia.ita.doc.gov). On September 22, 2004, the CIT issued its opinion regarding the Department's first remand, affirming in part and remanding in part the Department's results. The CIT ordered the Department: 1) to reopen the record in this case, admit the complete financial statements of the surrogate Indian producer, Tata Iron and Steel Co., Ltd. (“TATA”), and consider that information in its redetermination; and 2) reconsider its factors-of-production analysis by either providing an adequate explanation for its deviation from previous practice, or assigning surrogate values to Respondents' factors of production for their self-produced intermediate inputs. See Anshan Iron & Steel Company, Ltd. v. United States, 358 F. Supp. 2d. 1236 (CIT 2004). The Department complied with the CIT's request and reopened the record to admit TATA's complete financial statement. Based on an analysis of this new information, the Department recalculated Respondents' normal value to assign surrogate values to each of the inputs used by Respondents to self-produce electricity, nitrogen, oxygen, and argon. On January 7, 2005, the Department filed its second remand results. See Final Results of Redetermination Pursuant to Remand (January 7, 2005) (available at http://ia.ita.doc.gov). On March 15, 2005, the CIT sustained the Department's second remand results. See Anshan Iron & Steel Co. v. United States, 366 F. Supp. 2d 128 (CIT 2005).

Amended Final Determination

Because there is now a final and conclusive decision in the court proceeding, we are amending the Final Determination to reflect the results of the second remand determination. The recalculated margins are as follows:

Manufacturer/exporter | Weighted-average margin (percent)
Angang Group International Trade Corporation, | 31.09
New Iron & Steel Co., Ltd.,
and Angang Group Hong Kong Co., Ltd.
Benxi Iron & Steel Group International | 57.19
Economic & Trade Co., Ltd.,
Bengang Steel Plates Co., Ltd.,
and Benxi Iron & Steel Group Co., Ltd.
Shanghai Baosteel Group Corporation, | 12.39
Baoshan Iron and Steel Co., Ltd.,
and Baosteel Group International Trade Corporation

Cash Deposit Requirements

The Department will direct United States Customs and Border Protection to require, on or after the date of publication of this notice in the Federal Register, the cash deposit rates listed above for the subject merchandise. These cash deposit requirements, when imposed, shall remain in effect until publication of the final results of an administrative review of this order.

This notice is issued and published in accordance with sections 735(d) and 777(i) of the Tariff Act of 1930, as amended.

Dated: November 8, 2005.
Stephen J. Claeys,
Acting Assistant Secretary for Import Administration.

[FR Doc. E5-6373 Filed 11-16-05; 8:45 am]

BILLING CODE 3510-DS-S